FEDERAL COMMUNICATIONS COMMISSION

[OMB 3060-XXXX]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before January 2, 2019. If you anticipate that you will be submitting comments, but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION:

OMB Control Number: 3060-XXXX.

Title: Broadcast Incubator Program.

Form Number: N/A.

Type of Review: New information collection.

Respondents: Business or other for-profit entities; not-for-profit institutions; Tribal Governments.

Number of Respondents: 20 respondents; 123 responses.

Estimated Time per Response: 4 to 16 hours.

Frequency of Response: On occasion reporting requirement; annual reporting requirement.

Obligation to Respond: Required to obtain or retain benefits. Statutory authority for these collections are contained in 47 U.S.C. 151, 152(a), 154(i), 257, 303, 307-310, and 403.

Total Annual Burden: 1,179 hours.

Total Annual Cost: $326,700.

Privacy Impact Assessment: No impact(s).

Nature and Extent of Confidentiality: The need for confidentiality for this collection of information is not anticipated; however, when submitting an incubation proposal (including the underlying contract and certified statements), applicants may, upon request, redact confidential or proprietary terms.

Needs and Uses: On August 3, 2018, the Commission released a Report and Order (Order), Rules and Policies to Promote New Entry and Ownership Diversity in the Broadcasting Services, FCC 18-114, in MB Docket No. 17-289, establishing the requirements that will govern the incubator program that the Commission previously decided to adopt to support the entry of new and diverse voices into the radio broadcast industry. The Commission recognized the need for more innovative approaches to encourage access to capital, as well as technical, operational, and management training for use by new entrants and small businesses, that without assistance, would not be able to own broadcast stations. The incubator program is designed for small businesses, struggling station owners, and new entrants that do not have any other means to access the financial assistance and operational support necessary for success in the broadcast industry. The goal is the pairing of these small aspiring, or struggling, broadcast station owners with established broadcasters. These incubation relationships will provide new entrants and struggling small broadcasters access to the financing, mentoring, and industry connections that are necessary for success in the industry, but to date have been unavailable to many. In return for successfully incubating a small aspiring, or struggling, broadcast station owner as part of the incubator program, an incumbent broadcaster will be eligible to receive a waiver of the Commission's Local Radio Ownership Rule following the conclusion of a successful qualifying incubation relationship. Commission staff will use the initial incubator applications, certification statements, contracts, and any responses to Commission requests for additional information to determine qualifications for participation in the incubator program. Commission staff will use the periodic reports to determine whether ongoing incubation relationships are proceeding in a manner consistent with the parties' initial filings and are likely to result in a successful incubation relationship. In the event the parties seek to extend the duration of their incubation relationship, the filing of a request for such an extension will enable Commission staff to gauge the types of problems incubating parties are experiencing. Information provided by the parties to the Commission no later than six months before the contract termination date will allow Commission staff to evaluate which option for station ownership the incubating parties plan to pursue at the conclusion of the relationship. Additionally, Commission staff will review documentation submitted to seek a reward waiver to assess whether the market where the reward waiver is sought is a comparable market to where the incubated station was located.

Federal Communications Commission.
Marlene Dortch,
Secretary, Office of the Secretary.

[FR Doc. 2018-24023 Filed 11-1-18; 8:45 am]

BILLING CODE 6712-01-P